DEPARTMENT OF THE TREASURY

Alcohol and Tobacco Tax and Trade Bureau

27 CFR Part 9

RIN 1513-AA54

[Notice No. 43]

Proposed Expansion of the Livermore Valley Viticultural Area (2002R-202P)

AGENCY: Alcohol and Tobacco Tax and Trade Bureau, Treasury.

ACTION: Notice of proposed rulemaking.

SUMMARY: The Alcohol and Tobacco Tax and Trade Bureau proposes to amend its regulations to expand the existing 96,000-acre Livermore Valley viticultural area in Alameda County, California. The proposed expansion would add 163,000 acres to the Livermore Valley viticultural area in northern Alameda and southern Contra Costa Counties. We designate viticultural areas to allow vintners to better describe the origin of their wines and to allow consumers to better identify the wines they may purchase. We invite comments on this proposed addition to our regulations.

DATES: We must receive written comments on or before July 18, 2005.

ADDRESSES: You may send comments to any of the following addresses:

• Chief, Regulations and Procedures Division, Alcohol and Tobacco Tax and Trade Bureau, Attn: Notice No. 43, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, the appropriate maps, and any comments we receive about this proposal by appointment at the TTB Library, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: N.A. Sutton, Regulations and Procedures Division, Alcohol and Tobacco Tax and Trade Bureau, 925 Lakeville St., No. 158, Petaluma, California 94952; telephone 415-271-1254.

SUPPLEMENTARY INFORMATION:

Background on Viticultural Areas

TTB Authority

Section 105(e) of the Federal Alcohol Administration Act (the FAA Act, 27 U.S.C. 201 et seq.) requires that alcohol beverage labels provide consumers with adequate information regarding product identity and prohibits the use of misleading information on such labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Petitioners may use the same procedure to request changes involving existing viticultural areas. Section 9.3(b) of the TTB regulations requires the petition to include—

• Evidence that the proposed viticultural area is locally and/or nationally known by the name specified in the petition;

• Historical or current evidence that supports setting the boundary of the proposed viticultural area as the petition specifies;

• Evidence relating to the geographical features, such as climate, elevation, physical features, and soils, that distinguish the proposed viticultural area from surrounding areas;

• A description of the specific boundary of the proposed viticultural area, based on features found on United States Geological Survey (USGS) maps; and

• A copy of the appropriate USGS map(s) with the proposed viticultural area's boundary prominently marked.

Livermore Valley Expansion Petition

TTB received a petition from the President of the Livermore Valley Winegrowers Association proposing to expand the existing Livermore Valley viticultural area in California (27 CFR 9.46). As currently defined, the area is located in Alameda County on the portion of the Livermore Valley floor bordered by the Altamont Hills and Crane Ridge to the east, Pleasanton Ridge to the west, Cedar Mountain Ridge and Rocky Ridge to the south, and the Black Hills to the north. Presently, the Livermore Valley viticultural area encompasses about 96,000 acres, of which 4,235 are devoted to vineyards. A total of 20 wineries operate in the existing viticultural area.

TTB also received a petition proposing to expand the existing San Francisco Bay viticultural area (27 CFR 9.157) and Central Coast viticultural area (27 CFR 9.75) from the Livermore Valley Winegrowers Association. These proposed expansions, which are the subject of a notice published elsewhere in this issue of the Federal Register, correspond directly to the proposed Livermore Valley viticultural area (27 CFR 9.46) expansion, the subject of this notice.

The petitioner requests an expansion of the existing Livermore Valley viticultural area so that it encompasses both the valley floor and the flanking hills that define the valley's geography and watershed in Alameda County and southern Contra Costa County. According to the petitioner, the expanded Livermore Valley viticultural area would be bounded by the Altamont Hills and Crane Ridge to the east, Cedar Mountain Ridge and Rocky Ridge to the south, Walpert Ridge and Rocky Ridge to the west, and the peak of Mount Diablo (the highest point of the Black Hills) to the north. The proposed expansion of the Livermore Valley viticultural area would result in a viticultural area of about 259,000 acres, of which 4,355 acres are devoted to vineyards belonging to 24 wineries. The expansion, therefore, would add approximately 163,000 total acres, 120 acres of vineyards, and 4 wineries to the viticultural area.

Below, we summarize the evidence presented in the Livermore Valley expansion petition.

Name Evidence

The original final rule that adopted the Livermore Valley viticultural area, T.D. ATF-112 (47 FR 38520, September 1, 1982), details the derivation of Livermore Valley as a place name and summarizes strong evidence of Livermore Valley's local and national renown as a vineyard region. As shown in “A Companion to California Wine” and “The Wine Atlas of California,” the petitioner states that Livermore Valley continues to garner renown as one of California's most historic wine regions.

The petitioner in the present case reviewed historic and scientific evidence, and believes the current viticultural area boundaries do not accurately encompass land historically and geographically identified as the Livermore Valley growing region. This evidence shows that lands adjacent to current Livermore Valley viticultural area boundaries to the north, east, south, and west deserve to be included in the viticultural area, based on both shared name identification and shared geographical features. In addition, the Livermore Valley viticultural area and the proposed additions contrast sharply with lands beyond the revised boundaries presented in the petition.

“Wines & Vines of California,” “American Wines,” “Gorman on Premium California Wines,” and “The Winewright's Register” all document Livermore Valley as a much larger area, encompassing the entire valley basin and its surrounding hills. All four works recognize Livermore Valley as reaching north to Mount Diablo, and all mention the hills that surround the Livermore Valley basin to the east, south, and west. As indicated below, the evidence defining Livermore Valley in this broader context covers all eras of the region's viticultural history, from the 1880's to the present.

Boundary Evidence

According to the petitioner, the Livermore Valley has a long viticultural history and strong regional identity, though precise boundaries for the region were not defined until 1982, when the Livermore Valley viticultural area was established. As described earlier in this notice, the petitioner states that the Livermore Valley viticultural area currently encompasses only a portion of the region's valley topography. This notice proposes to expand the boundaries of the Livermore Valley viticultural area to include those lands that, based on name identity and natural features, the petitioners believe should have been included in the original viticultural area petition. The petitioner states that the proposed expansion boundaries maintain the historic and geographic integrity of Livermore Valley viticultural area.

Historical and current evidence presented in the petition explains that Livermore Valley includes the entire valley basin and its encircling hills, rather than the relatively limited portion of the valley floor encompassed in the original petition. Historical and modern maps provided with the petition show Livermore Valley as including the entire basin area. In the book “Early Days in the Livermore Valley,” the Livermore-Amador Valley is shown as reaching from Niles Canyon and Vallecitos in the south to Tassajara in the north, and from the hills west of Pleasanton to the Altamont Pass and the eastern limits of Arroyo Seco to the east. Bulletin No. 118-2 from the California Department of Water Resources, “Evaluation of Ground Water Resources: Livermore and Sunol Valley,” similarly features maps on land use and mean annual precipitation that show Livermore Valley stretching from Niles Canyon in the south to well beyond the Alameda/Contra Costa County line in the north, and from hills west of Pleasanton in the west to the Altamont Pass and the hills east of Livermore in the east. The book “Valley Profiles: A Photographic Essay on the Livermore Valley of California” includes a map of the Livermore Valley that encompasses virtually the same area as the previous examples: South to beyond Sunol, north to beyond Danville, west into the hills east of Pleasanton and Dublin, and east to Altamont Pass.

The petitioner contends that this expansion of the Livermore Valley viticultural area has strong local support, and the Livermore Valley Winegrowers Association, which represents virtually all the vintners and growers in the region, endorses the proposed expansion. The Association's membership includes wineries and vineyards located in Palomares Canyon and Sunol, along the western edge of the proposed expansion. Wente Vineyards, one of the original Livermore Valley viticultural area petitioners in the early 1980s, also favors and supports the viticultural area boundary expansion proposal. In addition, the Association's promotional brochure, “Livermore Valley Wine Country,” features a map showing the broader definition of Livermore Valley.

The petitioner claims that the Livermore Valley is considerably larger than the limited portion of the valley floor and southern hills included in the 1982 originally established Livermore Valley viticultural area. Moreover, petition evidence shows the Livermore Valley to be primarily defined by natural topographic features (that is, mountain ranges and river drainages). The distinctive geographic features that distinguish Livermore Valley, according to the petitioner, result from these natural topographic features and their influences and provide strong argument for expansion of the viticultural area to include the entire Livermore Valley and its encircling hills.

Distinguishing Features

The petitioner states that the proposed expansion of the Livermore Valley viticultural area encompasses land with the same geographical features as the current viticultural area. The uniformity of distinguishing elements (climate, soil, and topography) is detailed below. The foregoing is evidence that the expansion area proposed by this petition is known as Livermore Valley.

Climate

As stated in T.D. ATF-112, the original final rule establishing the Livermore Valley viticultural area, the Valley has a moderate coastal climate resulting from its proximity to San Francisco Bay and the Pacific Ocean. The original final rule also cites cool marine winds and morning fog as important factors in moderating temperatures during the growing season and keeping the area's vineyards relatively frost-free during the early spring.

The majority of vineyard acreage in the Livermore Valley viticultural area, as explained in T.D. ATF-112, is classified under the University of California at Davis system of heat summation by degree-days as Region III (3,001-3,500 degree-days). It further states that a small portion of the area within Livermore Valley is classified as Region II (2,501-3000 degree-days). (During the growing season, one degree day accumulates for each degree Fahrenheit that a day's average temperature is above 50 degrees, which is the minimum temperature required for grapevine growth. See “General Viticulture,” by Albert J. Winkler, University of California Press, 1974.)

According to the petitioner, cumulative climate data from the National Weather Service shows an average annual degree-day total of 3,425 in the town of Livermore, the heart of the current Livermore Valley viticultural area, which is at 486feet in elevation. The only equivalent weather station in the proposed expanded viticultural area is located at the 2,100-foot elevation Mount Diablo Junction, just south of the proposed northern boundary. Cumulative climate data from this weather station shows an average total for the growing season of 3,359 degree-days. The petitioner states that this provides clear evidence that the climate in the expansion area is the same Region III range as most of the current Livermore Valley viticultural area.

The cool marine winds and morning fog enter the Livermore Valley from San Francisco Bay through gaps in the western hills of Alameda and Contra Costa Counties, specifically through Niles Canyon and Hayward Pass (at the top of Dublin Canyon), as detailed in the San Jose Astronomical Association material (http://ephemeris.sjaa.net/0107/b.html, search dated 10/01/01), and through Crow Canyon. Such cooling influences are not limited to a specific section of the Valley, but, as seen from the degree-day data above, provide a relatively uniform climate throughout the Livermore Valley basin.

Developed by Waldimir Koppen in the early 20th century based on temperature, precipitation, and vegetation, the Koppen (or “Koeppen”) climate classification system also offers evidence of this uniform climate, according to the petitioner. The “Koeppen Classification for California” map, developed by the University of Idaho, and the “Koppen Climate Chart” classify the Livermore Valley as “Csb,” described as “Mediterranean-mild with dry warm summer.” The region is differentiated from the “Csa” (“Mediterranean mild with dry, hot summer”) and “BSk” (Mid-latitude steppe, Mid-latitude dry) classifications found to the east. Significantly, the boundary line between these climate classifications almost exactly duplicates the proposed eastern boundary of the expanded Livermore Valley viticultural area. According to the petitioner, with the entire Livermore Valley basin sharing the same climate, it is logical that the entire basin should be included in the Livermore Valley viticultural area.

The petitioner believes that the Livermore Valley basin's climate during the growing season represents a transition zone between the very cool, temperate, marine-influenced climate directly adjacent to San Francisco Bay, and the hot, dry diurnally (day versus night) differentiated climate of the upper San Joaquin Valley. According to the petitioner, a clear indicator of the unique character of the Livermore Valley basin climate can be seen by comparing the average growing season degree-day totals at climate stations within the region to those that are east and west of the proposed viticultural area at approximately the same latitude. As mentioned earlier, the average degree-day total within the proposed expanded Livermore Valley viticultural area is fairly consistent—3,425 at Livermore, 3,359 at Diablo Junction. The total at Upper San Leandro FLTR, directly west of the proposed expansion area near San Francisco Bay is 2,461 degree-days; the total at Tracy Carbona, directly east of the proposed expansion area in the San Joaquin Valley, is 2,465 degree-days. The Livermore Valley basin, bounded by hills to the west and east, has a unique climate distinct from the adjacent areas, a geographical feature that strongly supports expansion of the viticultural area to the natural boundaries, according to the petitioner.

Soils

According to the petitioner, soils provide additional support for the proposed expansion of the Livermore Valley viticultural area. Although the geographic area encompassed by the proposed expansion is significantly larger than the current Livermore Valley viticultural area, the underlying geology and historic geologic forces crucial to soil formation are the same, resulting in soils in the expansion areas that are thoroughly consistent with those of the original viticultural area, the petition states.

As shown on the Geologic Map of California, the same substrata geology comprises both the current Livermore Valley viticultural area and the proposed expansion: Pleistocene alluvial, mostly non-marine terrace deposits on the basin floor; Pleistocene, Pliocene, Miocene and Cretaceous sandstone, shale, gravel, and conglomerate in the northern, eastern and western hills; and Franciscan Complex fragmented and sheared sandstone in the southern hills.

The petitioner states that the geologic forces that created the topography and soils of the proposed expanded Livermore Valley viticultural area are the same as the current Livermore Valley viticultural area. Uplift and subsidence along several earthquake faults (among them the Calaveras and Pleasanton faults to the west, the Greenwood fault to the east, and the Livermore and Tesla fault in the center of the Valley) have shaped the region's topography. Erosion and weathering of base material on the slopes and deposit of sediment on the Valley floor due to runoff over the millennia have created the soils of the region.

T.D. ATF-112, which established the Livermore Valley viticultural area, states, “The main soil type is the Yolo-Pleasanton association with the Livermore gravelly and very gravelly series being prominent in the southern portion of the valley.” The petitioner believes this description represents a highly simplified review of the soils in the original viticultural area. According to the “Soil Survey, Alameda Area, California,” published by the United States Department of Agriculture (USDA) in cooperation with the California Agricultural Experiment Station in 1966, the portion of the Livermore Valley floor within the current viticultural area also includes Positas-Perkins association (shallow gravelly loam on terraces) and Clear Lake-Sunnyvale association (shallow clay soils on basins and terraces). Soils recorded on the slopes of the current viticultural area by the survey include Millsholm-Los Gatos-Los Osos association (well to excessively drained low fertility soils on moderately sloping to very steep slopes), Altamont-Diablo association (well to excessively drained clayey moderate to high fertility soils on rolling to steep slopes), and Vallecitos-Parris association (well-drained to excessively drained shallow loam and gravelly loam soils, on steep to very steep slopes).

Both the “Soil Survey, Alameda Area, California” and the “Soil Survey of Contra Costa, California,” published by the USDA in cooperation with the California Agricultural Experiment Station in 1977, record the same soil associations in the proposed expansion area as in the current viticultural area. In two cases, slightly different associations are recorded in the two soil surveys (Altamont-Diablo and Clearlake-Sunnyvale in Alameda; Altamont-Diablo-Fontana and Clearlake-Cropley in Contra Costa), sometimes on contiguous sites. In both cases, the soil descriptions are virtually identical, suggesting slightly differing surveyor interpretations of the same soils.

From a viticultural standpoint, the petitioner explains, soils in the proposed Livermore Valley viticultural area expansion are distinguished from surrounding areas to the north and east (the only sites on which vineyards logically can be planted in the immediate vicinity, due to steep terrain, population density, and other factors). Soils north and east of the proposed boundaries transition into Brentwood-Rincon Zamora association (level, well-drained clay and silty clay loam on alluvial fans) and Marcuse-Solan-Pescadero association (nearly level, poorly drained clays, loam and clay loams on basin rims). While suited to vineyards, the petitioner explains, these soils differ from those in the current Livermore Valley viticultural area and the proposed expansion.

Evidence Summary

The petitioner contends that the climate for the entire Livermore Valley basin is the same moderate coastal climate as found in the existing Livermore Valley viticultural area, with the same average degree-day totals. In addition, the climate data and supporting evidence show the Livermore Valley basin experiences the same cooling marine influences of wind and morning fog through the gaps in the western hills of Alameda and Contra Costa Counties as the current viticultural area. This unique climate, identical both in the current Livermore Valley viticultural area and in the broader Livermore Valley basin, the petitioner states, is evidence that the two areas are the same.

According to the petitioner, geologic and soils evidence illustrates the identical nature of the two areas in the substrata geology. The geologic forces responsible for the topography and soils throughout the proposed expansion are the same as in the current viticultural area. The result is soils in the proposed expansion area that mirror those in the current viticultural area—the same soil associations (with allowance for surveyor interpretation) occur in both. Unlike the climate, the soils in the proposed expansion area are not absolutely unique to the region. However, lands beyond the boundaries to the west and north—the only adjacent areas suited to grape growing—transition into soil association not found in the current viticultural area or the proposed expansion area.

The petitioner believes the distinguishing features of the original Livermore Valley viticultural area, including the climate and soils, are present in the proposed expansion area, and provide sufficient evidence to meet the requirements of 27 CFR 9.3.

Boundary Description

See the narrative boundary description of the petitioned-for expanded Livermore Valley viticultural area in the proposed regulatory text amendment published at the end of this notice.

Maps

The petitioner provided the required maps, and we list them below in the proposed regulatory text amendment.

Impact on Current Wine Labels

The proposed expansion of the Livermore Valley viticultural area will not affect currently approved wine labels. The approval of this proposed expansion may allow additional vintners to use “Livermore Valley” as an appellation of origin on their wine labels. Part 4 of the TTB regulations prohibits any label reference on a wine that indicates or implies an origin other than the wine's true place of origin. For a wine to be eligible to use as an appellation of origin the name of a viticultural area specified in part 9 of the TTB regulations, at least 85 percent of the grapes used to make the wine must have been grown within the area represented by that name, and the wine must meet the other conditions listed in 27 CFR 4.25(e)(3). Different rules apply if a wine has a brand name containing a viticultural area name that was used as a brand name on a label approved before July 7, 1986. See 27 CFR 4.39(i)(2) for details.

Public Participation

Comments Invited

We invite comments from interested members of the public on whether we should expand the Livermore Valley viticultural area as described above. We are especially interested in comments concerning the similarity of the proposed expansion area to the currently existing Livermore Valley viticultural area. Please support your comments with specific information about the proposed expansion area's name, proposed boundaries, or distinguishing features.

Submitting Comments

Please submit your comments by the closing date shown above in this notice. Your comments must include this notice number and your name and mailing address. Your comments must be legible and written in language acceptable for public disclosure. We do not acknowledge receipt of comments, and we consider all comments as originals.

You may submit comments in any one of five ways.

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/alcohol/rules/index.htm. Select the “Send comments via e-mail” link under this notice number.

• Federal e-Rulemaking Portal: To submit comments to us via the Federal e-rulemaking portal, visit http://www.regulations.gov and follow the instructions for submitting comments.

You may also write to the Administrator before the comment closing date to ask for a public hearing. The Administrator reserves the right to determine, in light of all circumstances, whether to hold a public hearing.

Confidentiality

All submitted material is part of the public record and subject to disclosure. Do not enclose any material in your comments that you consider confidential or inappropriate for public disclosure.

Public Disclosure

You may view copies of this notice, the petition, the appropriate maps, and any comments we receive by appointment at the TTB Library at 1310 G Street, NW., Washington, DC 20220. You may also obtain copies at 20 cents per 8.5- x 11-inch page. Contact our librarian at the above address or telephone 202-927-2400 to schedule an appointment or to request copies of comments.

For your convenience, we will post this notice and any comments we receive on this proposal on the TTB Web site. We may omit voluminous attachments or material that we consider unsuitable for posting. In all cases, the full comment will be available in the TTB Library. To access the online copy of this notice and the submitted comments, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N.A. Sutton of the Regulations and Procedures Division drafted this notice.

List of Subjects in 27 CFR Part 9

Wine.

Proposed Regulatory Amendment

For the reasons discussed in the preamble, we propose to amend title 27, chapter 1, part 9, Code of Federal Regulations, as follows:

PART 9—AMERICAN VITICULTURAL AREAS

1. The authority citation for part 9 continues to read as follows:

Authority: 27 U.S.C. 205.

Subpart C—Approved American Viticultural Areas

2. Revise paragraphs (b) and (c) of § 9.46 to read as follows:

§ 9.46 Livermore Valley.

* * * * *

(b) Approved Maps. The appropriate maps for determining the boundaries of the Livermore Valley viticultural area are thirteen 1:24,000 scale U.S.G.S. topographic maps. They are titled:

(1) Clayton, CA (1953; Photorevised 1980, Minor Revision 1994);

(2) Diablo, Calif. (1953, Photorevised 1980);

(3) Tassajara, CA (1996);

(4) Byron Hot Springs, Calif. (1953, Photorevised 1968);

(5) Altamont, Calif. (1953, Photorevised 1981);

(6) Midway, Calif. (1953, Photorevised 1980);

(7) Cedar Mtn., CA (1956, Photorevised 1971, Minor Revision 1994);

(8) Mendenhall Springs, CA (1996);

(9) La Costa Valley, CA (1996);

(10) Niles, Calif. (1961, Photorevised 1980);

(11) Dublin, Calif. (1961, Photorevised 1980);

(12) Hayward, CA (1993); and

(13) Las Trampas Ridge, CA (1995).

(c) Boundary. The Livermore Valley viticultural area is located in the State of California in Contra Costa and Alameda Counties. The Livermore Valley viticultural area's boundary is defined as follows—

(1) Begin on the Clayton map at the peak of Mount Diablo (VABM 3849) where the Mount Diablo Base Line and Mount Diablo Meridian Line intersect; then

(2) Proceed southeast in a straight line for approximately 14 miles, crossing the Diablo and Tassajara maps, and pass onto the Byron Hot Springs map to the summit of Brushy Peak (elevation 1,702 feet); then

(3) Continue due south in a straight line approximately 400 feet to the northern boundary of section 13, T2S, R2E; then

(4) Proceed due east along the section 13, T2S, R2E, and section 18, T2S, R3E, northern boundary lines to the northeast corner of section 18; then

(5) Continue southeast in a straight line approximately 1.8 miles to BM 720 in section 21, T2S, R3E, on the Altamont map; then

(6) Continue south-southeast in a straight line approximately 1 mile to an unnamed 1,147-foot peak in section 28, T2S, R3E; then

(7) Continue south-southwest in a straight line approximately 1.1 miles to the intersection of the eastern boundary of section 32, T2S, R3E, with Interstate 580; then

(8) Continue southeast in a straight line approximately 2.7 miles to BM 1602 in Patterson Pass in section 10, T3S, R3E; then

(9) Continue south-southeast in a straight line approximately 2.8 miles to BM 1600, adjacent to Tesla Road in section 26, T3S, R3E, on the Midway map; then

(10) Continue south in a straight line approximately 4.2 miles, passing onto the Cedar Mtn. map, to BM 1878, 40 feet north of Mines Road, in section 14, T4S, R3E; then

(11) Proceed west-southwest in a straight line approximately 4.2 miles, passing onto the Mendenhall Springs map, to the southeast corner of section 19, T4S, R3E; then

(12) Continue west along the southern boundaries of section 19, T4S, R3E, and section 24, T4S, R2E, to the southwest corner of section 24; then

(13) Proceed north along the western boundary of section 24, T4S, R2E, to the southeast corner of section 14, T4S, R2E; then

(14) Continue west along the southern boundary of section 14, T4S, R2E, to its southwest corner and then proceed north along the western boundary of section 14 to its intersection with the Hetch Hetchy Aqueduct; then

(15) Follow the Hetch Hetchy Aqueduct west-southwest approximately 4.2 miles to the Aqueduct's intersection with the R1E/R2E range line on the La Costa Valley map; then

(16) Continue southwest in a straight line approximately 3.9 miles, crossing Apperson, Welsh, and Alameda Creeks, to BM 533 in section 10, T5S, R1E; then

(17) Proceed due west-northwest in a straight line approximately 1.9 miles, passing onto the Niles map, to the line's intersection with the eastern boundary of section 5, T5S, R1E; then

(18) Continue northwest in a straight line approximately 1.1 miles to the 1,291-foot peak in section 32, T4S, R1E; then

(19) Continue northwest in a straight line approximately 1.1 miles to the 1,004-foot peak in section 30, T4S, R1E; then

(20) Continue northwest in a straight line approximately 3.8 miles, passing through BM 161 in section 11, T4S, R1W, until the line intersects Palomares Road in section 11; then

(21) Follow Palomares Road in a northerly direction for approximately 0.7 miles to the road's intersection with the power transmission line shown in section 11, T4S, R1W; then

(22) Proceed northwest along the power transmission line for approximately 6.4 miles, passing through the Dublin map near Walpert Ridge, onto the Hayward map to the point where the power transmission line turns nearly west, approximately 500 feet south of an unnamed 891-foot peak; then

(23) Continue north-northwest in a straight line approximately 1.4 miles to an unnamed 840-foot peak; then

(24) Proceed north-northeast in a straight line approximately 3.4 miles, returning to the Dublin map, to the point of an angle in the Contra Costa-Alameda County line in section 20, T2S, R1W, about 0.4 miles west of Wiedemann Hill (elevation 1,854); then

(25) Beginning in a northwesterly direction, proceed along the meandering Contra Costa-Alameda County line for approximately 6.0 miles, passing briefly onto the Hayward, Las Trampas Ridge, and Diablo maps, before returning the Las Trampas Ridge map and continuing to the point of an angle in the Contra Costa-Alameda County line in section 35, T1S, R2W; then

(26) From that point, continue north-northwest in a straight line approximately 2.7 miles to the summit of Las Trampas Peak (elevation 1,827 feet) in section 22, T1S, R2W; then

(27) Proceed east-northeast in a straight line approximately 8.8 miles, passing through the Diablo map, and return to the beginning point at the summit of Mount Diablo on the Clayton map.

Signed: April 28, 2005.
John J. Manfreda,
Administrator.

[FR Doc. 05-10006 Filed 5-18-05; 8:45 am]

BILLING CODE 4810-31-P